COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds product(s) and service(s) to the Procurement List that will be furnished by nonprofit agencies employing persons who are blind or have other severe disabilities and deletes product(s) from the Procurement List previously furnished by such agencies.

DATES: Date added to and deleted from the Procurement List: October 8, 2023.

ADDRESSES: Committee for Purchase From People Who Are Blind or Severely Disabled, 355 E Street SW, Suite 325, Washington, DC 20024.

FOR FURTHER INFORMATION CONTACT: Michael R. Jurkowski, Telephone: (703) 785-6404, or email CMTEFedReg@AbilityOne.gov.

SUPPLEMENTARY INFORMATION:

Additions

On 7/7/2023 and 7/21/2023, the Committee for Purchase From People Who Are Blind or Severely Disabled published notice of proposed additions to the Procurement List. This notice is published pursuant to 41 U.S.C. 8503(a)(2) and 41 CFR 51-2.3.

After consideration of the material presented to it concerning capability of qualified nonprofit agencies to provide the product(s) and service(s) and impact of the additions on the current or most recent contractors, the Committee has determined that the product(s) and service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product(s) and service(s) to the Government.

2. The action will result in authorizing small entities to furnish the product(s) and service(s) to the Government.

3. There are no known regulatory alternatives which would accomplish the objectives of the Javits-Wagner-O'Day Act (41 U.S.C. 8501-8506) in connection with the product(s) and service(s) proposed for addition to the Procurement List.

End of Certification

Accordingly, the following product(s) and service(s) are added to the Procurement List:

Product(s)

NSN(s)—Product Name(s):

6140-01-624-2917—Battery, Storage, 12V, Lead Acid, 15 Amp Hours

6140-01-619-9474—Battery, Storage, 12V, Lead Acid, 8.5 Amp Hours

6140-01-237-8005—Battery, Storage, 12V, Lead Acid, 1.2 Amp Hours

6135-01-370-2599—Battery, Nonchargeable, 3.6V, Lithium

Designated Source of Supply: Eastern Carolina Vocational Center, Inc., Greenville, NC

Contracting Activity: DEFENSE LOGISTICS AGENCY, DLA LAND AND MARITIME

List Designation: C-List

Mandatory for: 100% of the requirement of the Department of Defense

Service(s)

Service Type: Custodial Service

Mandatory for: US Navy, Naval Surface Warfare Center Dahlgren Division, Dahlgren, VA and Pumpkin Neck Annex Explosive Location, King George, VA

Designated Source of Supply: ServiceSource, Inc., Oakton, VA

Contracting Activity: DEPT OF THE NAVY, NSWC DAHLGREN

The Committee finds good cause to dispense with the 30-day delay in the effective date normally required by the Administrative Procedure Act. See 5 U.S.C. 553(d). This addition to the Committee's Procurement List is effectuated because of the expiration of the Department of the Navy, NSWC Dahlgren's, Custodial Service, NSWCDD, Dahlgren, VA and Pumpkin Neck Annex, King George, VA contract. The Federal customer contacted and has worked diligently with the AbilityOne Program to fulfill this service need under the AbilityOne Program. To avoid performance disruption, and the possibility that the NSWC Dahlgren will refer its business elsewhere, this addition must be effective on September 27, 2023, ensuring timely execution for an October 1, 2023 start date while still allowing 19 days for comment. The Committee also published a notice of proposed Procurement List addition in the Federal Register on July 11, 2023 and did not receive any comments from any interested persons. This addition will not create a public hardship and has limited effect on the public at large, but, rather, will create new jobs for other affected parties—people with significant disabilities in the AbilityOne program who otherwise face challenges locating employment. Moreover, this addition will enable Federal customer operations to continue without interruption.

Deletions

On 8/4/2023, the Committee for Purchase From People Who Are Blind or Severely Disabled published notice of proposed deletions from the Procurement List. This notice is published pursuant to 41 U.S.C. 8503(a)(2) and 41 CFR 51-2.3.

After consideration of the relevant matter presented, the Committee has determined that the product(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) to the Government.

3. There are no known regulatory alternatives which would accomplish the objectives of the Javits-Wagner-O'Day Act (41 U.S.C. 8501-8506) in connection with the product(s) deleted from the Procurement List.

End of Certification

Accordingly, the following product(s) are deleted from the Procurement List:

Product(s)

NSN(s)—Product Name(s):

8415-01-518-4561—Pants, Physical Training Uniform, USAF, Blue, X-Small/Short

8415-01-518-4562—Pants, Physical Training Uniform, USAF, Blue, X-Small/Regular

8415-01-518-4563—Pants, Physical Training Uniform, USAF, Blue, X-Small/Long

8415-01-518-4564—Pants, Physical Training Uniform, USAF, Blue, Small/Short

8415-01-518-4565—Pants, Physical Training Uniform, USAF, Blue, Small/Regular

8415-01-518-4566—Pants, Physical Training Uniform, USAF, Blue, Small/Long

8415-01-518-4567—Pants, Physical Training Uniform, USAF, Blue, Medium/Short

8415-01-518-4568—Pants, Physical Training Uniform, USAF, Blue, Medium/Regular

8415-01-518-4570—Pants, Physical Training Uniform, USAF, Blue, Medium/Long

8415-01-518-4571—Pants, Physical Training Uniform, USAF, Blue, Large/Short

8415-01-518-4572—Pants, Physical Training Uniform, USAF, Blue, Large/Regular

8415-01-518-4573—Pants, Physical Training Uniform, USAF, Blue, Large/Long

8415-01-518-4574—Pants, Physical Training Uniform, USAF, Blue, X-Large/Short

8415-01-518-4575—Pants, Physical Training Uniform, USAF, Blue, X-Large/Regular

8415-01-518-4576—Pants, Physical Training Uniform, USAF, Blue, X-Large/Long

8415-01-518-4577—Pants, Physical Training Uniform, USAF, Blue, XX-Large/Short

8415-01-518-4578—Pants, Physical Training Uniform, USAF, Blue, XX-Large/Regular

8415-01-518-4579—Pants, Physical Training Uniform, USAF, Blue, XX-Large/Long

8415-01-518-4580—Pants, Physical Training Uniform, USAF, Blue, XXX-Large/Short

8415-01-518-4581—Pants, Physical Training Uniform, USAF, Blue, XXX-Large/Regular

8415-01-518-4582—Pants, Physical Training Uniform, USAF, Blue, XXX-Large/Long

8415-01-518-4583—Pants, Physical Training Uniform, USAF, Blue, XXXX-Large/Short

8415-01-518-4584—Pants, Physical Training Uniform, USAF, Blue, XXXX-Large/Regular

8415-01-518-4585—Pants, Physical Training Uniform, USAF, Blue, XXXX-Large/Long

8415-01-521-0426—Pants, Physical Training Uniform, USAF, Blue, Small/X-Short

8415-01-521-0452—Pants, Physical Training Uniform, USAF, Blue, Medium/X-Short

8415-01-521-0453—Pants, Physical Training Uniform, USAF, Blue, Large/X-Short

8415-01-521-0454—Pants, Physical Training Uniform, USAF, Blue, X Large/X-Short

8415-01-521-0455—Pants, Physical Training Uniform, USAF, Blue, XXX Large/X-Short

8415-01-521-0456—Pants, Physical Training Uniform, USAF, Blue, XX Large/X-Short

8415-01-521-0458—Pants, Physical Training Uniform, USAF, Blue, XXXX Large/X-Short

8415-01-528-8025—Pants, Physical Training Uniform, USAF, X Small/X-Short

Designated Source of Supply: Alphapointe, Kansas City, MO

Designated Source of Supply: Lions Services, Inc., Charlotte, NC

Designated Source of Supply: LC Industries, Inc., Durham, NC

Designated Source of Supply: Goodwill Vision Enterprises, Rochester, NY

Contracting Activity: DLA TROOP SUPPORT, PHILADELPHIA, PA

NSN(s)—Product Name(s):

MR 1114—Mat, Sink, Small

Designated Source of Supply: CINCINNATI ASSOCIATION FOR THE BLIND AND VISUALLY IMPAIRED, Cincinnati, OH

Contracting Activity: Military Resale-Defense Commissary Agency

Michael R. Jurkowski,
Acting Director, Business Operations.

[FR Doc. 2023-19408 Filed 9-7-23; 8:45 am]

BILLING CODE 6353-01-P